NUCLEAR REGULATORY COMMISSION

[Docket No. 40-8943-MLA-2; ASLBP No. 13-926-01-MLA-BD01]

Crow Butte Resources, Inc.; Establishment of Atomic Safety and Licensing Board

Pursuant to delegation by the Commission, see 37 FR 28,710 (Dec. 29, 1972), and the Commission=s regulations, see 10 CFR 2.105, 2.300, 2.303, 2.309, 2.313, 2.318, 2.321, notice is hereby given that an Atomic Safety and Licensing Board (Board) is being established to preside over the following proceeding:

Crow Butte Resources, Inc.

(Marsland Expansion Area)

This proceeding involves a request from Crow Butte Resources, Inc. to amend its Source Material License, SUA-1534, to obtain authority to construct and operate an in situ uranium recovery satellite facility at its Marsland site in Dawes County, Nebraska. In response to a “Notice of Opportunity for a Hearing” published in the Federal Register, see 77 Fed. Reg. 71,454 (Nov. 30, 2012), hearing requests were filed on January 29, 2013 by (1) the Oglala Sioux Tribe, and (2) a consolidated group of petitioners comprised of Antonia Loretta Afraid of Bear Cook, Bruce McIntosh, Debra White Plume, Western Nebraska Resources Council, and Aligning for Responsible Mining.

The Board is comprised of the following administrative judges:

G. Paul Bollwerk, III, Chair, Atomic Safety and Licensing Board Panel, U.S. Nuclear Regulatory Commission, Washington, DC 20555-0001; Dr. Richard E. Wardwell, Atomic Safety and Licensing Board Panel, U.S. Nuclear Regulatory Commission, Washington, DC 20555-0001; Dr. Thomas J. Hirons, Atomic Safety and Licensing Board Panel, U.S. Nuclear Regulatory Commission, Washington, DC 20555-0001.

All correspondence, documents, and other materials shall be filed in accordance with the NRC E-Filing rule, which the NRC promulgated in August 2007 (72 FR 49,139). See 10 CFR 2.302.

Dated: Rockville, Maryland, February 6, 2013.
E. Roy Hawkens,
Chief Administrative Judge, Atomic Safety and Licensing Board Panel.

[FR Doc. 2013-03184 Filed 2-11-13; 8:45 am]

BILLING CODE 7590-01-P